DEPARTMENT OF COMMERCE

National Oceanic and Atmospheric Administration

[RTID 0648-XD023]

South Atlantic Fishery Management Council; Public Meetings

AGENCY: National Marine Fisheries Service (NMFS), National Oceanic and Atmospheric Administration (NOAA), Commerce.

ACTION: Notice of public meetings.

SUMMARY: The South Atlantic Fishery Management Council (Council) will hold meetings of the following: Citizen Science Committee, Mackerel Cobia Committee, Dolphin Wahoo Committee, and Snapper Grouper Committee. The meeting week will also include a formal public comment session and a meeting of the Full Council.

DATES: The Council meeting will be held from 8:30 a.m. on Monday, June 12, 2023 until 12 p.m. on Friday, June 16, 2023.

ADDRESSES:

Meeting address: The meetings will be held at the World Golf Village Renaissance, 500 Legacy Trail, St. Augustine, FL; phone: (904) 635-940-8000. The meeting will also be available via webinar. Registration is required. See SUPPLEMENTARY INFORMATION.

Council address: South Atlantic Fishery Management Council, 4055 Faber Place Drive, Suite 201, N Charleston, SC 29405.

FOR FURTHER INFORMATION CONTACT: Kim Iverson, Public Information Officer, SAFMC; phone: (843 302-8440 or toll free: (866) SAFMC-10; fax: (843) 769-4520; email: kim.iverson@safmc.net.

SUPPLEMENTARY INFORMATION: Meeting information, including agendas, overviews, and briefing book materials will be posted on the Council's website at: http://safmc.net/safmc-meetings/council-meetings/. Webinar registration links for the meeting will also be available from the Council's website.

Public comment: Public comment on agenda items may be submitted through the Council's online comment form available from the Council's website at: http://safmc.net/safmc-meetings/council-meetings/. Written comments will be accepted from May 26, 2023 until June 16, 2023. These comments are accessible to the public, part of the Administrative Record of the meeting, and immediately available for Council consideration. A formal public comment session will also be held during the Council meeting.

The items of discussion in the individual meeting agendas are as follows:

Council Session I, Monday, June 12, 2023, 8:30 a.m. Until 12 p.m. (Closed Session)

The Council will meet in Closed Session to receive a litigation brief, review and discuss advisory panel applications, appointments to the Council's Scientific and Statistical Committee (SSC) and SEDAR Pool, and consider selection of the 2022 Law Enforcement Officer of the Year.

Council Session I, Monday, June 12, 2023, 1:30 p.m. Until 4 p.m. (Open Session)

The Council will receive reports from state agencies, Council liaisons, NOAA Office of Law Enforcement, and the U.S. Coast Guard. The Council will receive an update on Highly Migratory Species, the Commercial Electronic Logbook Amendment, and the Council's Research and Monitoring Plan, including presentations from NOAA Fisheries.

Citizen Science Committee, Monday, June 12, 2023, 4 p.m. Until 5 p.m.

The Committee will receive an update on the Council's Citizen Science Program's projects and program evaluation and a presentation on the Citizen Science Project Idea Portal.

Mackerel Cobia Committee, Tuesday, June 13, 2023, 8:30 a.m. Until 11 a.m.

The Committee will receive a report from the Mackerel Cobia Advisory Panel (AP), receive SSC recommendations and discuss management of Spanish mackerel, and discuss options for conducting port meetings for the mackerel fishery. The Committee will discuss king mackerel tournament landings and approve topics for the next meeting of the Mackerel Cobia AP.

Dolphin Wahoo Committee, Tuesday, June 13, 2023, 11 a.m. Until 12 p.m.

The Committee will receive an update on the Dolphin Management Strategy Evaluation from NOAA Fisheries as well as dolphin-related management actions in the Caribbean. The Committee will continue work on Regulatory Amendment 3 to the Dolphin Wahoo Fishery Management Plan currently addressing size limits and recreational retention limits.

Snapper Grouper Committee, Tuesday, June 13, 2023, 1:30 p.m. Until 5 p.m., Wednesday, June 14, 2023, 8:30 a.m. Until 3:45 p.m., and Thursday, June 15, 2023, From 8:30 a.m. Until 10:30 a.m.

The Committee will review the following amendments to the Snapper Grouper Fishery Management Plan being developed and consider recommendations from its advisory panels: Amendment 48 addressing wreckfish management measures; Amendment 44 addressing yellowtail snapper management; Amendment 55 addressing management measures for scamp and yellowmouth grouper; and Amendment 46 addressing recreational permits for the snapper grouper fishery. The Committee is scheduled to approve Amendment 55 for public scoping.

The Committee will also receive a presentation from NOAA Fisheries SEFSC on the latest stock assessment for black sea bass and recommendations from its Scientific and Statistical Committee (SSC). The Committee will also receive updates on sunset provisions for Spawning Special Management Zones, the Stock Assessment and Fishery Evaluation (SAFE) Report, and Best Fishing Practices Outreach. The Committee will also consider recommendations from the SSC and the advisory panels not covered previously in the meeting agenda.

Formal Public Comment, Wednesday, June 14, 2023, 4 p.m.

Public comment will be accepted from individuals attending the meeting in person and via webinar on all items on the Council meeting agenda. The Council Chair will determine the amount of time provided to each commenter based on the number of individuals wishing to comment.

Council Session II, Thursday, June 15, 2023, 10:30 a.m. Until 5 p.m. and Friday, June 16, 2023, 8:30 a.m. Until 12 p.m.

The Council will receive a litigation brief if needed, a staff report, and a report on the meeting of the Council Coordinating Committee. The Council will receive presentations on National Standards, Space Operations off the coast of Florida, and Equity and Environmental Justice. The Council will receive reports from NOAA Fisheries Southeast Regional Office and the Southeast Fisheries Science Center. The Council will receive Committee reports, review its workplan for the next quarter, upcoming meetings, and take action as necessary. The Council will discuss any other business as needed.

Documents regarding these issues are available from the Council office (see ADDRESSES).

Although non-emergency issues not contained in this agenda may come before these groups for discussion, those issues may not be the subject of formal action during these meetings. Action will be restricted to those issues specifically identified in this notice and any issues arising after publication of this notice that require emergency action under section 305(c) of the Magnuson-Stevens Fishery Conservation and Management Act, provided the public has been notified of the Council's intent to take final action to address the emergency.

Special Accommodations

These meetings are physically accessible to people with disabilities. Requests for auxiliary aids should be directed to the council office (see ADDRESSES) 5 days prior to the meeting.

Note: The times and sequence specified in this agenda are subject to change.

Authority: 16 U.S.C. 1801 et seq.

Dated: May 16, 2023.
Rey Israel Marquez,
Acting Deputy Director, Office of Sustainable Fisheries, National Marine Fisheries Service.

[FR Doc. 2023-10789 Filed 5-18-23; 8:45 am]

BILLING CODE 3510-22-P